DEPARTMENT OF ENERGY

Federal Energy Regulatory Commission

Combined Notice of Filings #1

Take notice that the Commission received the following electric corporate filings:

Docket Numbers: EC11-40-000.

Applicants: Orange and Rockland Utilities, Inc.

Description: Application of Orange and Rockland Utilities, Inc. for an order pursuant to Section 203 of the Federal Power Act.

Filed Date: 02/04/2011.

Accession Number: 20110204-5137.

Comment Date: 5 p.m. Eastern Time on Friday, February 25, 2011.

Take notice that the Commission received the following electric rate filings:

Docket Numbers: ER10-1809-002.

Applicants: RED-Scotia, LLC.

Description: Notification of Change in Facts Under Market-Based Rate Authority of RED-Scotia, LLC.

Filed Date: 02/04/2011.

Accession Number: 20110204-5154.

Comment Date: 5 p.m. Eastern Time on Friday, February 25, 2011.

Docket Numbers: ER10-3269-001.

Applicants: West Oaks Energy LP.

Description: West Oaks Energy LP submits tariff filing per 35: West Oaks Energy, LP, FERC Electric MBR Tariff No. 1 to be effective 2/4/2011.

Filed Date: 02/07/2011.

Accession Number: 20110207-5002.

Comment Date: 5 p.m. Eastern Time on Monday, February 28, 2011.

Docket Numbers: ER10-3311-001.

Applicants: BJ Energy, LLC.

Description: BJ Energy, LLC submits tariff filing per 35: BJ Energy, LLC, FERC Electric MBR Tariff No. 1 to be effective 2/4/2011.

Filed Date: 02/07/2011.

Accession Number: 20110207-5000.

Comment Date: 5 p.m. Eastern Time on Monday, February 28, 2011.

Docket Numbers: ER10-3312-001.

Applicants: Pure Energy Inc.

Description: Pure Energy Inc. submits tariff filing per 35: Pure Energy, Compliance File Baseline LLC to be effective 9/30/2010.

Filed Date: 02/04/2011.

Accession Number: 20110204-5125.

Comment Date: 5 p.m. Eastern Time on Friday, February 25, 2011.

Docket Numbers: ER10-3315-001.

Applicants: Indeck-Oswego Limited Partnership.

Description: Indeck-Oswego Limited Partnership submits tariff filing per 35: Indeck-Oswego, Limited Partnership, FERC Electric MBR Tariff No. 1 to be effective 2/4/2011.

Filed Date: 02/07/2011.

Accession Number: 20110207-5001.

Comment Date: 5 p.m. Eastern Time on Monday, February 28, 2011.

Docket Numbers: ER10-3316-001.

Applicants: Indeck Energy Services of Silver Springs.

Description: Indeck Energy Services of Silver Springs Inc. submits tariff filing per 35: Indeck Energy Services of Silver Springs, Inc., FERC Electric MBR Tariff No. 1 to be effective 2/4/2011.

Filed Date: 02/04/2011.

Accession Number: 20110204-5135.

Comment Date: 5 p.m. Eastern Time on Friday, February 25, 2011.

Docket Numbers: ER10-3320-001.

Applicants: MAG Energy Solutions Inc.

Description: MAG Energy Solutions Inc. submits tariff filing per 35: MAG Energy Solutions, Inc., FERC Electric MBR Tariff No. 1 to be effective 2/4/2011.

Filed Date: 02/04/2011.

Accession Number: 20110204-5136.

Comment Date: 5 p.m. Eastern Time on Friday, February 25, 2011.

Docket Numbers: ER10-3323-001.

Applicants: Indeck-Olean Limited Partnership.

Description: Indeck-Olean Limited Partnership submits tariff filing per 35: Indeck-Olean Compliance File Baseline FERC Electric MBR Tariff No. 1 to be effective 9/30/2010.

Filed Date: 02/07/2011.

Accession Number: 20110207-5003.

Comment Date: 5 p.m. Eastern Time on Monday, February 28, 2011.

Docket Numbers: ER10-3324-001.

Applicants: Indeck-Yerkes Limited Partnership.

Description: Indeck-Yerkes Limited Partnership submits tariff filing per 35: Indeck-Yerkes, Compliance File Baseline FERC Electric MBR Tariff No. 1 to be effective 9/30/2010.

Filed Date: 02/04/2011.

Accession Number: 20110204-5123.

Comment Date: 5 p.m. Eastern Time on Friday, February 25, 2011.

Docket Numbers: ER10-3325-001.

Applicants: SESCO CALISO.

Description: SESCO CALISO submits tariff filing per 35: SESCO CALISO, LLC, Comp Filing to Baseline FERC Electric Tariff Schedule No. 1 to be effective 9/30/2010.

Filed Date: 02/04/2011.

Accession Number: 20110204-5128.

Comment Date: 5 p.m. Eastern Time on Friday, February 25, 2011.

Docket Numbers: ER10-3326-001.

Applicants: SESCO Enterprises LLC.

Description: SESCO Enterprises LLC submits tariff filing per 35: SESCO Enterprises, LLC Comp Filing to baseline FERC Elec Tariff Sched No. 1 to be effective 9/30/2010.

Filed Date: 02/04/2011.

Accession Number: 20110204-5129.

Comment Date: 5 p.m. Eastern Time on Friday, February 25, 2011.

Docket Numbers: ER10-3327-001.

Applicants: Jump Power LLC.

Description: Jump Power LLC submits tariff filing per 35: Jump Power Compliance File Baseline FERC Electric MBR Tariff No. 1 to be effective 9/30/2010.

Filed Date: 02/04/2011.

Accession Number: 20110204-5124.

Comment Date: 5 p.m. Eastern Time on Friday, February 25, 2011.

Docket Numbers: ER10-3328-001.

Applicants: SESCO Enterprises Canada Ltd.

Description: SESCO Enterprises Canada Ltd. submits tariff filing per 35: SESCO Enterpr Comp Filing to Baseline FERC Elec Tariff Sched No. 1 to be effective 9/30/2010.

Filed Date: 02/04/2011.

Accession Number: 20110204-5119.

Comment Date: 5 p.m. Eastern Time on Friday, February 25, 2011.

Docket Numbers: ER10-3329-001.

Applicants: Round Rock Energy LP.

Description: Round Rock Energy LP submits tariff filing per 35: Round Rock Energy, LP Comp Filing Baseline FERC Electric Tariff Sched No. 1 to be effective 9/30/2010.

Filed Date: 02/04/2011.

Accession Number: 20110204-5127.

Comment Date: 5 p.m. Eastern Time on Friday, February 25, 2011.

Docket Numbers: ER10-3330-001.

Applicants: Round Rock Energy LLC.

Description: Round Rock Energy LLC submits tariff filing per 35: Round Rock Energy, LLC Comp Filing to Baseline FERC Elec Tariff Sched No. 1 to be effective 9/30/2010.

Filed Date: 02/04/2011.

Accession Number: 20110204-5126.

Comment Date: 5 p.m. Eastern Time on Friday, February 25, 2011.

Docket Numbers: ER10-3331-001.

Applicants: West Oaks Energy NY/NE, LP.

Description: West Oaks Energy NY/NE, LP submits tariff filing per 35: W Oaks Energy LP Comp Filing to Baseline FERC Electric Tariff Sched No. 1 to be effective 9/30/2010.

Filed Date: 02/04/2011.

Accession Number: 20110204-5131.

Comment Date: 5 p.m. Eastern Time on Friday, February 25, 2011.

Docket Numbers: ER11-5-001.

Applicants: Great Bay Energy, LLC.

Description: Great Bay Energy, LLC submits tariff filing per 35: Great Bay Energy Compliance File Baseline FERC Electric Tariff Schedule No. 1 to be effective 9/30/2010.

Filed Date: 02/04/2011.

Accession Number: 20110204-5121.

Comment Date: 5 p.m. Eastern Time on Friday, February 25, 2011.

Docket Numbers: ER11-6-001.

Applicants: Great Bay Energy I LLC.

Description: Great Bay Energy I LLC submits tariff filing per 35: Great Bay Energy I Compliance File Baseline FERC Electric Tariff Sched No. 1 to be effective 9/30/2010.

Filed Date: 02/04/2011.

Accession Number: 20110204-5133.

Comment Date: 5 p.m. Eastern Time on Friday, February 25, 2011.

Docket Numbers: ER11-2053-001.

Applicants: Midwest Independent Transmission System Operator, Inc.

Description: Midwest Independent Transmission System Operator, Inc. submits tariff filing per 35: 02-04-11 Interface Pricing Compliance to be effective 11/9/2010.

Filed Date: 02/04/2011.

Accession Number: 20110204-5120.

Comment Date: 5 p.m. Eastern Time on Friday, February 25, 2011.

Docket Numbers: ER11-2375-001.

Applicants: Consolidated Edison Company of New York.

Description: Consolidated Edison Company of New York, Inc. submits tariff filing per 35: Supplemental Information Order 697 Compliance Filing to be effective 2/4/2011.

Filed Date: 02/04/2011.

Accession Number: 20110204-5039.

Comment Date: 5 p.m. Eastern Time on Friday, February 25, 2011.

Docket Numbers: ER11-2376-001.

Applicants: Orange and Rockland Utilities, Inc.

Description: Orange and Rockland Utilities, Inc. submits tariff filing per 35: Supplemental Information Order 697 Compliance Filing to be effective 1/1/2011.

Filed Date: 02/04/2011.

Accession Number: 20110204-5132.

Comment Date: 5 p.m. Eastern Time on Friday, February 25, 2011.

Docket Numbers: ER11-2378-001.

Applicants: Consolidated Edison Energy, Inc.

Description: Consolidated Edison Energy, Inc. submits tariff filing per 35: Supplemental Information Order 697 Compliance Filing to be effective 1/1/2011.

Filed Date: 02/07/2011.

Accession Number: 20110207-5005.

Comment Date: 5 p.m. Eastern Time on Monday, February 28, 2011.

Docket Numbers: ER11-2379-001.

Applicants: Consolidated Edison Solutions, Inc.

Description: Consolidated Edison Solutions, Inc. submits tariff filing per 35: Supplemental Information Order 697 Compliance Filing to be effective 1/1/2011.

Filed Date: 02/07/2011.

Accession Number: 20110207-5006.

Comment Date: 5 p.m. Eastern Time on Monday, February 28, 2011.

Docket Numbers: ER11-2607-001; ER11-2598-001; ER11-2612-001.

Applicants: Sempra Energy Trading LLC, MxEnergy Electric Inc., Gateway Energy Services Corporation.

Description: Supplemental to Notice of Category 1 Seller Status of Sempra Energy Trading LLC, et al.

Filed Date: 02/04/2011.

Accession Number: 20110204-5138.

Comment Date: 5 p.m. Eastern Time on Friday, February 25, 2011.

Docket Numbers: ER11-2607-002.

Applicants: Sempra Energy Trading LLC.

Description: Sempra Energy Trading LLC submits tariff filing per 35: SET Revised Category 1 Status re MBR Tariff to be effective 3/4/2011.

Filed Date: 02/04/2011.

Accession Number: 20110204-5055.

Comment Date: 5 p.m. Eastern Time on Friday, February 25, 2011.

Docket Numbers: ER11-2649-001.

Applicants: 3C Solar LLC.

Description: 3C Solar LLC submits tariff filing per 35: 3C Solar LLC Revised MBR Tariff to be effective 3/8/2011.

Filed Date: 02/04/2011.

Accession Number: 20110204-5037.

Comment Date: 5 p.m. Eastern Time on Friday, February 25, 2011.

Docket Numbers: ER11-2833-000.

Applicants: California Pacific Electric Company, LLC.

Description: California Pacific Electric Company, LLC submits tariff filing per 35.15: Cancellation of CalPeco Filing to be effective 12/31/9998.

Filed Date: 02/04/2011.

Accession Number: 20110204-5043.

Comment Date: 5 p.m. Eastern Time on Friday, February 25, 2011.

Docket Numbers: ER11-2834-000.

Applicants: California Pacific Electric Company, LLC.

Description: California Pacific Electric Company, LLC submits tariff filing per 35.15: Cancellation of Baseline Tariff for DCA and BCA to be effective 12/31/9998.

Filed Date: 02/04/2011.

Accession Number: 20110204-5044.

Comment Date: 5 p.m. Eastern Time on Friday, February 25, 2011.

Docket Numbers: ER11-2835-000.

Applicants: California Pacific Electric Company, LLC.

Description: California Pacific Electric Company, LLC submits tariff filing per 35.15: Cancellation of CalPeco Rate Schedule No. 5 to be effective 12/31/9998.

Filed Date: 02/04/2011.

Accession Number: 20110204-5052.

Comment Date: 5 p.m. Eastern Time on Friday, February 25, 2011.

Docket Numbers: ER11-2836-000.

Applicants: Pacific Gas and Electric Company.

Description: Pacific Gas and Electric Company submits tariff filing per 35.13(a)(2)(iii): Small Generator Interconnection Agreement for PG&E's Stroud Solar Station to be effective 2/7/2011.

Filed Date: 02/04/2011.

Accession Number: 20110204-5053.

Comment Date: 5 p.m. Eastern Time on Friday, February 25, 2011.

Docket Numbers: ER11-2837-000.

Applicants: Southwest Power Pool, Inc.

Description: Southwest Power Pool, Inc. submits tariff filing per 35.13(a)(2)(iii): 2151 TPW Petersburg, LLC GIA to be effective 1/5/2011.

Filed Date: 02/04/2011.

Accession Number: 20110204-5054.

Comment Date: 5 p.m. Eastern Time on Friday, February 25, 2011.

Docket Numbers: ER11-2838-000.

Applicants: Public Service Company of New Mexico.

Description: Public Service Company of New Mexico submits tariff filing per 35.13(a)(1): Change to Operating Procedure 9 to be effective 6/1/2011.

Filed Date: 02/04/2011.

Accession Number: 20110204-5058.

Comment Date: 5 p.m. Eastern Time on Friday, February 25, 2011.

Docket Numbers: ER11-2839-000.

Applicants: California Pacific Electric Company, LLC.

Description: California Pacific Electric Company, LLC submits tariff filing per 35.1: EBSA BCA DCA RSA ESA to be effective 2/4/2011.

Filed Date: 02/04/2011.

Accession Number: 20110204-5099.

Comment Date: 5 p.m. Eastern Time on Friday, February 25, 2011.

Docket Numbers: ER11-2840-000.

Applicants: PJM Interconnection, L.L.C.

Description: PJM Interconnection, L.L.C. submits tariff filing per 35.13(a)(2)(iii): ISA No. 2774, Queue Nos. V1-033 and W1-033, Energy Answers and BG&E to be effective 1/5/2011.

Filed Date: 02/04/2011.

Accession Number: 20110204-5122.

Comment Date: 5 p.m. Eastern Time on Friday, February 25, 2011.

Docket Numbers: ER11-2841-000.

Applicants: PJM Interconnection, L.L.C.

Description: PJM Interconnection, L.L.C. submits tariff filing per 35.13(a)(2)(iii): WMPA No. 2723, Queue No. W2-052, PSE&G and PSE&G to be effective 1/13/2011.

Filed Date: 02/04/2011.

Accession Number: 20110204-5134.

Comment Date: 5 p.m. Eastern Time on Friday, February 25, 2011.

Docket Numbers: ER11-2842-000.

Applicants: New York Independent System Operator, Inc.

Description: New York Independent System Operator, Inc. submits tariff filing per 35.13(a)(2)(iii): NYISO 205 Filing—Interconnection Study Cost Allocation to be effective 3/1/2011.

Filed Date: 02/07/2011.

Accession Number: 20110207-5025.

Comment Date: 5 p.m. Eastern Time on Monday, February 28, 2011.

Docket Numbers: ER11-2843-000.

Applicants: Oak Creek Wind Power, LLC.

Description: Oak Creek Wind Power, LLC submits tariff filing per 35: Oak Creek Wind Power, LLC First Revised MBR Tariff to be effective 2/8/2011.

Filed Date: 02/07/2011.

Accession Number: 20110207-5055.

Comment Date: 5 p.m. Eastern Time on Monday, February 28, 2011.

Docket Numbers: ER11-2844-000.

Applicants: Adagio Energy LLC.

Description: Adagio Energy LLC submits tariff filing per 35.1: Baseline 714 compliance to be effective 4/4/2011.

Filed Date: 02/07/2011.

Accession Number: 20110207-5102.

Comment Date: 5 p.m. Eastern Time on Monday, February 28, 2011.

Take notice that the Commission received the following electric securities filings:

Docket Numbers: ES11-18-000.

Applicants: Rockland Electric Company.

Description: Application of Rockland Electric Company for an order pursuant to Section 204 of the Federal Power Act.

Filed Date: 02/04/2011.

Accession Number: 20110204-5093.

Comment Date: 5 p.m. Eastern Time on Friday, February 25, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: February 7, 2011.
Nathaniel J. Davis, Sr.,
Deputy Secretary.

[FR Doc. 2011-3455 Filed 2-15-11; 8:45 am]

BILLING CODE 6717-01-P